FEDERAL COMMUNICATIONS COMMISSION

[DA 21-778; FR ID 37559]

Announcement of Next Meeting of the Consumer Advisory Committee

AGENCY: Federal Communications Commission.

ACTION: Notice.

SUMMARY: This notice announces the next meeting date, time, and agenda of the FCC Consumer Advisory Committee (Committee), a federal advisory committee established under the Federal Advisory Committee Act (FACA).

DATES: September 10, 2021, from 10:30AM to 2:30PM EST.

ADDRESSES: The meeting will be held remotely using an internet videoconferencing platform and publicly available for viewing via a live stream on the Commission's website.

FOR FURTHER INFORMATION CONTACT: Scott Marshall, Designated Federal Officer, FCC Consumer Advisory Committee, Consumer and Governmental Affairs Bureau, Federal Communications Commission, 45 L Street NE, Washington, DC 20554; phone: 202-418-2809 (voice or Relay); email: scott.marshall@fcc.gov; or Gregory V. Haledjian, Deputy Designated Federal Officer, FCC Consumer Advisory Committee, Consumer and Governmental Affairs Bureau, Federal Communications Commission, 45 L Street NE, Washington, DC 20554; phone: 202-418-7440; email: gregory.haledjian@fcc.gov.

SUPPLEMENTARY INFORMATION: This is a summary of the Commission's Public Notice, DA 21-778, released June 30, 2021, announcing the date, time, and agenda of the Committee's September 10, 2021 meeting. At this meeting, the Committee will receive presentations regarding recent Commission activities affecting consumers and will discuss upcoming developments of interest to consumers.

The meeting is open to members of the public and available via live stream at www.fcc.gov/live. The public also may follow a summary of the meeting on Twitter@fcc or via the Commission's Facebook page at www.facebook.com/fcc. Members of the public may submit questions that arise during the meeting to livequestions@fcc.gov.

Open captioning will be provided for the live stream. Other reasonable accommodations for people with disabilities are available upon request. To request materials in accessible formats for people with disabilities (Braille, large print, electronic files, audio format), send an email to FCC504@fcc.gov or call the FCC's Consumer and Governmental Affairs Bureau at 202-418-0530 (voice).

Consult the Committee's web page at www.fcc.gov/consumer-advisory-committee for further Committee information.

Comments to the Committee may be submitted through the Designated Federal Officer or the Deputy Designated Federal Officer at the above email addresses.

Federal Communications Commission.
Gregory Haledjian,
Legal Advisor, Consumer and Governmental Affairs Bureau.

[FR Doc. 2021-15067 Filed 7-14-21; 8:45 am]

BILLING CODE 6712-01-P